DEPARTMENT OF HOMELAND SECURITY

Federal Emergency Management Agency

[Docket ID FEMA-2025-0002; Internal Agency Docket No. FEMA-B-2506]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Online location of letter of map revision | Date of modification | Community No.
Alabama: Limestone | City of Athens (24-04-2174P). | The Honorable William Marks, Mayor, City of Athens, P.O. Box 1089, Athens, AL 35612. | Engineering & Community Development, 200 Hobbs Street West, Athens, AL 35611. | https://msc.fema.gov/portal/advanceSearch. | May 8, 2025 | 010146
Arkansas: Pope | City of Russellville (24-06-1681P). | The Honorable Fred Teague, Mayor, City of Russellville, 203 South Commerce Avenue, Russellville, AR 72801. | City Hall, 203 South Commerce Avenue, Russellville, AR 72801. | https://msc.fema.gov/portal/advanceSearch. | May 15, 2025 | 050178
Florida:
Monroe | Unincorporated areas of Monroe County (25-04-0582P). | The Honorable Jim Scholl, Mayor, Monroe County Board of Commissioners, 102050 Overseas Highway, Suite 234, Key Largo, FL 33037. | Monroe County Building Department, 2798 Overseal Highway, Suite 300, Marathon, FL 33050. | https://msc.fema.gov/portal/advanceSearch. | May 12, 2025 | 125129
St. Johns | Unincorporated areas of St. Johns County (24-04-1214P). | Joy Andrews, Administrator, St. Johns County, 500 San Sebastian View, St. Augustine, FL 32084. | St. Johns County Administration Building, 500 San Sebastian View, St. Augustine, FL 32084. | https://msc.fema.gov/portal/advanceSearch. | May 16, 2025 | 125129
Sumter | City of Wildwood (23-04-2629P). | Jason F. McHugh, Manager, City of Wildwood, 100 North Main Street, Wildwood, FL 34785. | Sumter County Administration Building, 7375 Powell Road, Wildwood, FL 34785. | https://msc.fema.gov/portal/advanceSearch. | May 23, 2025 | 120299
Sumter | Unincorporated areas of Sumter County (23-04-2629P). | Donald Wiley, Chair, Sumter County Board of Commissioners, 7375 Powell Road, Wildwood, FL 34785. | Sumter County Administration Building, 7375 Powell Road, Wildwood, FL 34785. | https://msc.fema.gov/portal/advanceSearch. | May 23, 2025 | 120296
Kansas:
Johnson | City of Olathe (24-07-0011P). | The Honorable John Bacon, Mayor, City of Olathe, 100 East Santa Fe Street, Olathe, KS 66061. | City Hall, 100 East Santa Fe Street, Olathe, KS 66061. | https://msc.fema.gov/portal/advanceSearch. | May 28, 2025 | 200173
Johnson | City of Overland Park (24-07-0011P). | The Honorable Curt Skoog, Mayor, City of Overland Park, 8500 Santa Fe Drive, Overland Park, KS 66212. | City Hall, 8500 Santa Fe Drive, Overland Park, KS 66212. | https://msc.fema.gov/portal/advanceSearch. | May 28, 2025 | 200174
Kentucky: Jefferson | Metropolitan Government of Louisville and Jefferson County (24-04-0693P). | The Honorable Craig Greenberg, Mayor, Metropolitan Government of Louisville and Jefferson County, 527 West Jefferson Street, Louisville, KY 40202. | Louisville/Jefferson County Metropolitan Sewer District, 700 West Liberty Street, Louisville, KY 40203. | https://msc.fema.gov/portal/advanceSearch. | Apr. 25, 2025 | 210120
Missouri: Jackson | City of Kansas City (24-07-0136P). | The Honorable Quinton Lucas, Mayor, City of Kansas City, 414 East 12th Street, 29th Floor, Kansas City, MO 64106. | Planning and Development Department, 414 East 12th Street, Kansas City, MO 64106. | https://msc.fema.gov/portal/advanceSearch. | May 28, 2025 | 290173
Maine: Cumberland | Town of Scarborough (25-01-0009P). | April Sither, Chair, Town of Scarborough Council, P.O. Box 360, Scarborough, ME 04070. | Planning and Codes Department, 259 U.S. Highway 1, Scarborough, ME 04070. | https://msc.fema.gov/portal/advanceSearch. | May 19, 2025 | 230052
Minnesota:
Dakota | City of Lakeville (23-05-1132P). | The Honorable Luke Hellier, Mayor, City of Lakeville, 20195 Holyoke Avenue, Lakeville, MN 55044. | City Hall, 20195 Holyoke Avenue, Lakeville, MN 55044. | https://msc.fema.gov/portal/advanceSearch. | May 5, 2025 | 270107
Todd | City of Long Prairie (24-05-0435P). | The Honorable David Wright, Mayor, City of Long Prairie, 615 Lake Street South, Long Prairie, MN 56347. | City Hall, 615 Lake Street South, Long Prairie, MN 56347. | https://msc.fema.gov/portal/advanceSearch. | May 15, 2025 | 270479
New Mexico:
Bernalillo | City of Albuquerque (24-06-0016P). | The Honorable Timothy M. Keller, Mayor, City of Albuquerque, 400 Marquette Avenue Northwest, Albuquerque, NM 87102. | Planning Department, 600 2nd Street Northwest, Albuquerque, NM 87102. | https://msc.fema.gov/portal/advanceSearch. | Apr. 14, 2025 | 350002
Bernalillo | City of Albuquerque (24-06-1214P). | The Honorable Timothy M. Keller, Mayor, City of Albuquerque, 400 Marquette Avenue Northwest, Albuquerque, NM 87102. | Planning Department, 600 2nd Street Northwest, Albuquerque, NM 87102. | https://msc.fema.gov/portal/advanceSearch. | Apr. 18, 2025 | 350002
Bernalillo | City of Rio Rancho (24-06-1214P). | The Honorable Greggory D. Hull, Mayor, City of Rio Rancho, 3200 Civic Center Circle Northeast, Rio Rancho, NM 87144. | City Hall, 3200 Civic Center Circle Northeast, Rio Rancho, NM 87144. | https://msc.fema.gov/portal/advanceSearch. | Apr. 18, 2025 | 350146
Bernalillo | Unincorporated areas of Bernalillo County (24-06-0016P). | Cindy Chavez, Manager, Bernalillo County, 415 Silver Avenue Southwest, Albuquerque, NM 87102. | Bernalillo County Clerk's Office, 415 Silver Avenue Southwest, Albuquerque, NM 87102. | https://msc.fema.gov/portal/advanceSearch. | Apr. 14, 2025 | 350001
North Carolina:
Buncombe | City of Asheville (24-04-1389P). | The Honorable Esther Manheimer, Mayor, City of Asheville, P.O. Box 7148, Asheville, NC 28802. | Planning and Urban Design Department, 70 Court Plaza, Asheville, NC 28802. | https://msc.fema.gov/portal/advanceSearch. | Apr. 9, 2025 | 370032
Buncombe | Unincorporated areas of Buncombe County (24-04-1389P). | Amanda Edwards, Chair, Buncombe County Board of Commissioners, 200 College Street, Suite 300, Asheville, NC 28801. | Buncombe County Planning Department, 46 Valley Street, Asheville, NC 28801. | https://msc.fema.gov/portal/advanceSearch. | Apr. 9, 2025 | 370031
Cabarrus | City of Concord (24-04-4752P). | The Honorable William C. Dusch, Mayor, City of Concord, P.O. Box 308, Concord, NC 28026. | GIS Division, 35 Cabarrus Avenue West, Concord, NC 28025. | https://msc.fema.gov/portal/advanceSearch. | Apr. 23, 2025 | 370037
Cabarrus | City of Kannapolis (24-04-4752P). | The Honorable Darrell Hinnant, Mayor, City of Kannapolis, 401 Laureate Way, Kannapolis, NC 28081. | City Hall, 401 Laureate Way, Kannapolis, NC 28081. | https://msc.fema.gov/portal/advanceSearch. | Apr. 23, 2025 | 370469
Mecklenburg | City of Charlotte (24-04-3395P). | The Honorable Vi Alexander Lyles, Mayor, City of Charlotte, 600 East 4th Street, Charlotte, NC 28202. | Mecklenburg County Stormwater Services Department, 2145 Suttle Avenue, Charlotte, NC 28208. | https://msc.fema.gov/portal/advanceSearch. | May 14, 2025 | 370159
Wake | Town of Apex (23-04-4722P). | The Honorable Jacques Gilbert, Mayor, Town of Apex, P.O. Box 250, Apex, NC 27502. | Engineering Department, 73 Hunter Street, Apex, NC 27502. | https://msc.fema.gov/portal/advanceSearch. | May 20, 2025 | 370467
Texas:
Bexar | City of Helotes (23-06-1989P). | The Honorable Rich Whitehead, Mayor, City of Helotes, P.O. Box 507, Helotes, TX 78023. | City Hall, 12951 Bandera Road, Helotes, TX 78023. | https://msc.fema.gov/portal/advanceSearch. | Apr. 7, 2025 | 481643
Bexar | Unincorporated areas of Bexar County (24-06-0195P). | The Honorable Peter Sakai, Bexar County Judge, 101 West Nueva Street, 10th Floor, San Antonio, TX 78205. | Bexar County Public Works Department, 1948 Probandt Street, San Antonio, TX 78214. | https://msc.fema.gov/portal/advanceSearch. | Apr. 7, 2025 | 480035
Dallas | City of Dallas (24-06-0429P). | Kimberly Bizor Tolbert, Manager, City of Dallas, 1500 Marilla Street, Room 4EN, Dallas, TX 75201. | City Hall, 1500 Marilla Street, Dallas, TX 75201. | https://msc.fema.gov/portal/advanceSearch. | Apr. 7, 2025 | 480171
Tarrant | City of Fort Worth (23-06-2131P). | The Honorable Mattie Parker, Mayor, City of Fort Worth, 100 Fort Worth Trail, Fort Worth, TX 76102. | Department of Transportation and Public Works, Stormwater Management Division, 100 Fort Worth Trail, Fort Worth, TX 76102. | https://msc.fema.gov/portal/advanceSearch. | May 12, 2025 | 480596

[FR Doc. 2025-03892 Filed 3-11-25; 8:45 am]

BILLING CODE 9110-12-P